ENVIRONMENTAL PROTECTION AGENCY

[EPA-HQ-OAR-2022-0058; FRL-10749-01-OMS]

Agency Information Collection Activities; Submission to the Office of Management and Budget for Review and Approval; Comment Request; NSPS for Sewage Sludge Treatment Plants (Renewal)

AGENCY: Environmental Protection Agency (EPA).

ACTION: Notice.

SUMMARY: The Environmental Protection Agency (EPA) has submitted an information collection request (ICR), NSPS for Sewage Sludge Treatment Plants (EPA ICR Number 1063.15, OMB Control Number 2060-0035), to the Office of Management and Budget (OMB) for review and approval in accordance with the Paperwork Reduction Act. This is a proposed extension of the ICR, which is currently approved through March 31, 2023. Public comments were previously requested via the Federal Register on July 22, 2022 during a 60-day comment period. This notice allows for an additional 30 days for public comments.

DATES: Comments may be submitted on or before March 27, 2023.

ADDRESSES: Submit your comments, referencing Docket ID Number EPA-HQ-OAR-2022-0058, to EPA online using www.regulations.gov, (our preferred method), or by email to a-and-r-Docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through March 31, 2023. An agency may not conduct or sponsor and a person is not required to respond to a collection of information unless it displays a currently valid OMB control number.

Public comments were previously requested via the Federal Register on July 22, 2022 during a 60-day comment period (87 FR 438434). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for Sewage Sludge Treatment Plants (40 CFR part 60, subpart O) were proposed on August 17, 1971; promulgated on December 23, 1971; and most-recently amended on February 27, 2014. These regulations apply to each incinerator which either combusts wastes that contain more than 10 percent sewage sludge (dry basis) produced by municipal sewage treatment plants or each incinerator which charges more than 1,000 kg (2,205 lb) per day municipal sewage sludge (dry basis). New facilities include those that either commenced construction, modification, or reconstruction after the date of proposal. These standards set emission limitation for particulate matter (PM). This information is being collected to assure compliance with 40 CFR part 60, subpart O.

In general, all NESHAP standards require initial notifications, performance tests, and periodic reports by owners/operators of the affected facilities. They are also required to maintain records of the occurrence and duration of any startup, shutdown, or malfunction in the operation of an affected facility, or any period during which the monitoring system is inoperative. These notification, reports, and records are essential in determining compliance, and are required of all affected facilities subject to NSPS.

Form Numbers: None.

Respondents/affected entities: Sewage sludge treatment plants.

Respondent's obligation to respond: Mandatory (40 CFR part 60, subpart O).

Estimated number of respondents: 103 facilities (total).

Frequency of response: Initially, occasionally, and semiannually.

Total estimated burden: 12,000 hours (per year). Burden is defined at 5 CFR 1320.3(b).

Total estimated cost: $5,250,000 (per year), which includes $3,810,000 in annualized capital/startup and/or operation & maintenance costs.

Changes in the Estimates: There is an adjustment increase in the total estimated burden as currently identified in the OMB Inventory of Approved Burdens. The adjustment increase in burden from the most-recently approved ICR is due to more accurate estimates of existing and anticipated new sources. There is an increase in the capital and O&M costs due to the updated estimates of existing and anticipated new sources.

Courtney Kerwin,
Director, Regulatory Support Division.

[FR Doc. 2023-03823 Filed 2-23-23; 8:45 am]

BILLING CODE 6560-50-P